DEPARTMENT OF AGRICULTURE

Forest Service

Oregon Coast Provincial Advisory Committee Meeting

AGENCY: Forest Service, USDA.

ACTION: Notice of meeting.

SUMMARY: The Oregon Coast provincial Advisory Committee (PAC) will meet on April 11, 2002. The meeting will begin at 9 a.m., in the Cape Perpetua Visitor's Center, 2400 Highway 101, Yachats, Oregon. Agenda items, with a theme of “aquatic issues,” will include: FS/BLM process to establish priority watersheds; locations of priority watersheds; restoration results on the BLM Nestucca and FS Knowles Creek projects; pre-commercial thinning obstacles; barriers to upland restoration; local jobs created through thinning; and round robin information sharing. A fifteen-minute public comment period is scheduled at approximately 1:45 p.m. The committee welcomes the publics' written comments on committee business at any time. The meeting should end around 3 p.m. Interested citizens are encouraged to attend. Lunch will be provided.

FOR FURTHER INFORMATION CONTACT: Joni Quarnstrom, Public Affairs Specialist, Siuslaw National Forest, 541/750-7075 or write to Forest Supervisor, Siuslaw National Forest, P.O. Box 1148, Corvallis, OR 97339.

Dated: March 14, 2002.
Gloria D. Brown,
Forest Supervisor.

[FR Doc. 02-6676 Filed 3-19-02; 8:45 am]

BILLING CODE 3410-11-M